DEPARTMENT OF COMMERCE

International Trade Administration

[A-570-836]

Glycine From the People's Republic of China: Preliminary Rescission of Antidumping Duty New Shipper Review; 2012

AGENCY: Import Administration, International Trade Administration, Department of Commerce.

ACTION: Notice.

SUMMARY: We are conducting a new shipper review of the antidumping duty order on glycine from the People's Republic of China (PRC). The new shipper review covers Hebei Donghua Jiheng Fine Chemical Company, Ltd. (Donghua Fine Chemical) for the period of review March 1, 2012, through August 31, 2012. We have preliminarily determined that Donghua Fine Chemical does not qualify as a new shipper. Therefore, we are preliminarily rescinding this new shipper review.

DATES: Effective August 23, 2013.

FOR FURTHER INFORMATION CONTACT: Brian Davis or Angelica Mendoza, AD/CVD Operations, Office 7, Import Administration, International Trade Administration, Department of Commerce, 1401 Constitution Avenue NW., Washington, DC 20230; telephone: (202) 482-7924 and (202) 482-3019, respectively.

SUPPLEMENTARY INFORMATION:

Scope of the Order

The product covered by the antidumping duty order is glycine, which is a free-flowing crystalline material, like salt or sugar. The subject merchandise is currently classifiable under Harmonized Tariff Schedule of the United States (HTSUS) subheading 2922.49.4020. The HTSUS subheading is provided for convenience and customs purposes only; the written product description of the scope of the order is dispositive.¹

¹ See Memorandum from Christian Marsh, Deputy Assistant Secretary for Antidumping and Countervailing Duty Operations, to Paul Piquado, Assistant Secretary for Import Administration, regarding, “Decision Memorandum for Preliminary Results of Antidumping Duty New Shipper Review: Glycine from the People's Republic of China” (Preliminary Decision Memorandum), dated concurrently with these results and hereby adopted by this notice, for a complete description of the scope of the order; see also Antidumping Duty Order: Glycine From the People's Republic of China, 60 FR 16116 (March 29, 1995).

Methodology

We have conducted this new shipper review in accordance with section 751(a)(2)(B) of the Tariff Act of 1930, as amended (the Act), and 19 CFR 351.214. For a full description of the methodology underlying our conclusions, please see Preliminary Decision Memorandum and Proprietary Preliminary Decision Memorandum,² both dated concurrently with these results and hereby adopted by this notice.

² See Memorandum to Richard O. Weible, Director, Antidumping and Countervailing Duty Operations, Office 7, Import Administration, regarding, “Proprietary Decision Memorandum for Preliminary Results of Antidumping Duty New Shipper Review: Glycine from the People's Republic of China,” dated concurrently with these results and hereby adopted by this notice (Proprietary Preliminary Decision Memorandum).

The Preliminary Decision Memorandum is a public document and is on file electronically via Import Administration's Antidumping and Countervailing Duty Centralized Electronic Service System (IA ACCESS). IA ACCESS is available to registered users at http://iaaccess.trade.gov and in the Central Records Unit, room 7046 of the main Department of Commerce building. In addition, a complete version of the Preliminary Decision Memorandum can be accessed directly on the Internet at http://www.trade.gov/ia/. The signed Preliminary Decision Memorandum and the electronic versions of the Preliminary Decision Memorandum are identical in content.

Preliminary Rescission

Based on information that Donghua Fine Chemical and Hebei Donghua Jiheng Chemical Company, Ltd. (Donghua Chemical) (collectively, the Hebei Companies) submitted in the context of this new shipper review in support of Donghua Fine Chemical's new shipper review request, we determine that Donghua Fine Chemical does not meet the minimum requirements in its request for a new shipper review under 19 CFR 351.214(b)(2)(iv)(A) and (C).³ Therefore, we preliminarily determine that it is appropriate to rescind the new shipper review with respect to Donghua Fine Chemical.⁴

³ We note that based on the information presented at initiation, we initiated a review of Donghua Fine Chemical's exports to the United States of glycine from the PRC. However, based on our review of record information, we note that this new shipper review covers imports of technical grade (or crude glycine) produced by Donghua Chemical and then further processed and exported by Donghua Fine Chemical.

⁴ We have not conducted a detailed bona fides analysis for these preliminary results due to the preliminary decision that Donghua Fine Chemical is not eligible for a new shipper review because record evidence appears to indicate that Donghua Fine Chemical is affiliated with entities that exported subject merchandise to the United States more than one year prior to Donghua Fine Chemical's request for new shipper review. Should Donghua Fine Chemical sufficiently demonstrate that it is not, in fact, affiliated with entities which exported subject merchandise to the United States more than one year prior to Donghua Fine Chemical's request for new shipper review as detailed above, we will conduct a full bona fides analysis of Donghua Fine Chemical's reported sales at that time.

Disclosure and Public Comment

We will disclose analysis performed to parties to the proceeding, normally not later than ten days after the day of the public announcement of, or, if there is no public announcement, within five days after the date of publication of, this notice.⁵

⁵ See 19 CFR 351.224(b).

Interested parties are invited to comment on these preliminary results and submit written arguments or case briefs within 30 days after the date of publication of this notice, unless otherwise notified by the Department.⁶ Rebuttal briefs, limited to issues raised in the case briefs, will be due five days later.⁷ Parties who submit case or rebuttal briefs are requested to submit with each argument: (1) A statement of the issue; and (2) a brief summary of the argument. Parties are requested to provide a summary of the arguments not to exceed five pages and a table of statutes, regulations, and cases cited.

⁶ See 19 CFR 351.309(c)(ii).

⁷ See 19 CFR 351.309(d).

Any interested party who wishes to request a hearing, or to participate if one is requested, must submit a written request to the Assistant Secretary for Import Administration within 30 days after the day of publication of this notice. A request should contain: (1) The party's name, address, and telephone number; (2) the number of participants; and (3) a list of issues to be discussed.⁸ Issues raised in the hearing will be limited to those raised in case briefs.

⁸ See 19 CFR 351.310(c).

We will issue the final rescission or final results of this new shipper review, including the results of our analysis of issues raised in any briefs, within 90 days after the date on which the preliminary rescissions were issued, unless the deadline for the final results is extended.⁹

⁹ See 19 CFR 351.214(i).

Assessment Rates

Donghua Fine Chemical's entries are currently subject to the PRC-wide rate. Although we intend to rescind the new shipper review, we are currently conducting an administrative review for the period of review March 1, 2012, through February 28, 2013, which covers the entry subject to this new shipper review. Accordingly, we will instruct U.S. Customs and Border Protection (CBP) to continue to suspend entries during the period March 1, 2012, through February 28, 2013, of subject merchandise exported by Donghua Fine Chemical until CBP receives instructions relating to the administrative review covering the period March 1, 2012, through February 28, 2013.

Cash Deposit Requirements

Effective upon publication of the final rescission or the final results of this new shipper review, we will instruct CBP to discontinue the option of posting a bond or security in lieu of a cash deposit for entries of subject merchandise by Donghua Fine Chemical. If we proceed to a final rescission of this new shipper review, the cash deposit rate will continue to be the PRC-wide rate for Donghua Fine Chemical. If we issue final results of the new shipper review, we will instruct CBP to collect cash deposits, effective upon the publication of the final results, at the rate established therein.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

This new shipper review and notice are in accordance with sections 751(a)(2)(B) and 777(i) of the Act and 19 CFR 351.214(f).

Dated: August 16, 2013.
Paul Piquado,
Assistant Secretary for Import Administration.

Appendix I—List of Topics Discussed in the Preliminary Decision Memorandum

1. Background

2. Scope of the Order

3. Discussion of Methodology

[FR Doc. 2013-20655 Filed 8-22-13; 8:45 am]

BILLING CODE 3510-DS-P